DEPARTMENT OF HOUSING AND URBAN DEVELOPMENT

[Docket No. FR-4818-N-15]

Notice of Proposed Information Collection for Public Comment: Telephone Surveys of Nonprofit Sponsors of HUD-Assisted Properties for the Elderly Regarding Knowledge of or Experience With HUD's Assisted Living Conversion Program

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date February 17, 2004.

ADDRESSES: Interested persons are invited to submit comments regarding this proposal. Comments should refer to the proposal by name and/or OMB Control Number and should be sent to: Reports Liaison Officer, Office of Policy Development and Research, Department of Housing and Urban Development, 451 7th Street, SW., Room 8226, Washington, DC 20410.

FOR FURTHER INFORMATION CONTACT: Cheryl A. Levine, Office of Policy Development and Research, Department of Housing and Urban Development, 451 7th Street, SW., Room 8140, Washington, DC 20410; telephone (202) 708-0614, x3928. This is not a toll-free number. Copies of the proposed forms and other available documents submitted to OMB may be obtained from Ms. Levine.

SUPPLEMENTARY INFORMATION: The Department of Housing and Urban Development will submit the proposed information collection package to OMB for review as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This notice also lists the following information:

Title of Proposal: Telephone Surveys of Nonprofit Sponsors of HUD-assisted Properties for the Elderly Regarding Knowledge of or Experience with HUD's Assisted Living Conversion Program.

Description of the need for the information and proposed use: The information to be collected is part of a larger study, conducted by Econometrica Inc. and Abt Associates Inc., of the early implementation and outcomes of the Assisted Living Conversion Program. Specifically, the study will look at the characteristics of projects eligible to apply for the ALCP; the characteristics of funded projects and the experience of funded grantees with the conversion process; and for eligible project sponsors who have not applied for funding, the reasons they have not applied. Two telephone surveys of sponsors will be administered. The first survey will be administered to a sample of 50 eligible non-applicant sponsors. This survey will focus on the respondents' level of familiarity with the ALCP and, for those who knew about the program, the reasons they decided not to apply. The second survey will be administered to all of the ALCP grantees that have not yet completed their conversions (approximately 35 respondents.) This survey will focus on the grantees' experience with applying for and implementing the ALCP grant. (Site visits will be conducted to up to eight completed projects; completed projects will not be included in the telephone surveys.) The information sought in both surveys is not currently available from any other source. The data will be compiled in a database for analysis for the study's final report. This research is intended to help HUD document strategies of successful grantees, identify barriers to full utilization of the program, and assess future needs that can be met by the program.

Members of affected public: Nonprofit sponsors of HUD-assisted projects built primarily for elderly occupancy.

Estimation of the total number of hours needed to prepare the information collection, including the number of respondents, frequency of response, and hours of response:

Types of respondents | Number of respondents | Number of responses | Minutes per respondent | Total burden hours
ALCP grantees that have not completed conversion | 35 | 35 | 60 | 35
Eligible non-applicants for the ALCP | 50 | 50 | 45 | 37.5

Status of the proposed information collection: Pending OMB approval.

Authority: The Paperwork Reduction Act of 1995, 44 U.S.C. chapter 35, as amended; and section 8(C)(1) of the United States Housing Act of 1937.

Dated: December 9, 2003.
Darlene F. Williams,
General Deputy Assistant Secretary for Policy Development and Research.

[FR Doc. 03-31041 Filed 12-16-03; 8:45 am]

BILLING CODE 4210-62-M